SOCIAL SECURITY ADMINISTRATION

20 CFR Part 408

[Docket No. SSA-2009-0062]

RIN 0960-AH16

Technical Amendment Language Change From “Wholly” to “Fully”; Correction

AGENCY: Social Security Administration.

ACTION: Correcting amendment.

SUMMARY: In the Federal Register of June 11, 2010, we published a final rules document replacing the word “wholly” with the word “fully” in a number of sections of our regulations when we describe the favorable and unfavorable nature of determinations or decisions we make on claims on benefits. We inadvertently amended § 408.1070 incorrectly. This document corrects the wording in this section.

DATES: Effective on July 28, 2010.

FOR FURTHER INFORMATION CONTACT: Brian J. Rudick, Office of Regulations, Social Security Administration, 6401 Security Boulevard, Baltimore, MD 21235-6401, (410) 965-7102. For information on eligibility or filing for benefits, call our national toll-free number, 1-800-772-1213, or TTY 1-800-325-0778, or visit our Internet site, Social Security Online, at http://www.socialsecurity.gov.

SUPPLEMENTARY INFORMATION: We published a final rules document in the Federal Register of June 11, 2010, (75 FR 33167) replacing the word “wholly” with the word “fully” in a number of sections of our regulations. In those final rules, we incorrectly stated and amended § 408.1070 (b)(1) when the introductory text was amended by removing the words “wholly or partially favorable” and adding in their place the words “fully or partially favorable”. This correction changes the language of paragraph (b)(1) by removing the word “favorable” and adding in its place the word “unfavorable”.

List of Subjects in 20 CFR Part 408

Administrative practice and procedure, Aged, Reporting and recordkeeping requirements, Social security, Supplemental Security Income (SSI), Veterans.

Accordingly, 20 CFR part 408 is amended by making the following correcting amendment:

PART 408—SPECIAL BENEFITS FOR CERTAIN WORLD WAR II VETERANS

Subpart J—[Amended]

1. The authority citation for subpart J of part 408 continues to read as follows:

Authority: Secs. 702(a)(5) and 809 of the Social Security Act (42 U.S.C. 902(a)(5) and 1009).

§ 408.1070 [Corrected]

2. In § 408.1070, amend paragraph (b)(1) introductory text by removing the words “wholly or partially unfavorable” and adding in its place the words “fully or partially unfavorable”.

Martin Sussman,
Senior Advisor for Regulations.

[FR Doc. 2010-18426 Filed 7-27-10; 8:45 am]

BILLING CODE 4191-02-P